ENVIRONMENTAL PROTECTION AGENCY

[EPA-HQ-OPP-2017-0751; FRL-12741-02-OCSPP]

Pesticide Registration Review; Decisions and Case Closures for Several Pesticides; Notice of Availability

AGENCY: Environmental Protection Agency (EPA).

ACTION: Notice.

SUMMARY: This notice announces the availability of EPA's final registration review decisions for ancymidol and d-allethrin and interim registration review decision for folpet. In addition, this notice announces the closure of the registration review cases for calcium lactate, DCPA, demiditraz, humates (as derived from leonardite), isopropyl myristate, jojoba oil, and sarmentine because the last U.S. registrations for these pesticides have been canceled.

FOR FURTHER INFORMATION CONTACT:

For pesticide specific information, contact: The Chemical Review Manager for the pesticide of interest identified in Table 1 of Unit I.

For general information on the registration review program, contact: Melanie Biscoe, Pesticide Re-Evaluation Division (7508P), Office of Pesticide Programs, Environmental Protection Agency, 1200 Pennsylvania Ave. NW, Washington, DC 20460-0001; telephone number: (202) 566-0701; email address: biscoe.melanie@epa.gov.

SUPPLEMENTARY INFORMATION:

I. Purpose of This Notice

Pursuant to 40 CFR 155.58(c), this notice announces the availability of EPA's final or interim registration review decisions for the pesticides shown in Table 1. The registration review decisions are supported by rationales included in the docket established for each chemical.

Table 1—Final and Interim Registration Review Decisions Being Issued
Registration review case name and No. | Docket ID No. | Chemical review manager and contact information
Ancymidol, Case Number 3017 | EPA-HQ-OPP-2011-0482 | Samantha Carter, carter.samantha@epa.gov, (202) 566-1179.
D-Allethrin, Case Number 0437 | EPA-HQ-OPP-2010-0022 | Carolyn Smith, smith.carolyn@epa.gov, (202) 566-2273.
Folpet, Case Number 0630 | EPA-HQ-OPP-2012-0859 | Samantha Carter, carter.Samantha@epa.gov, (202) 566-1179. Erin Dandridge, dandridge.erin@epa.gov, (202) 566-0635.

This notice also announces the closure of the registration review cases for calcium lactate (CASRN 6367); DCPA (CASRN 0270), Docket ID Number: (EPA-HQ-OPP-2011-0374); demiditraz (Case Number 7482, Docket ID Number EPA-HQ-OPP-2021-0407); humates (as derived from leonardite) (CASRN 6323), Docket ID Number: (EPA-HQ-OPP-2024-0017); isopropyl myristate (CASRN 6315), Docket ID Number: (EPA-HQ-OPP-2022-0842); jojoba oil (CASRN 6359); and sarmentine (CASRN 6321) because the last U.S. registrations for these pesticides have been canceled. There are no dockets established for Case 6367, Case 6359, and Case 6321 because all products for these cases were canceled before the registration review assessments were initiated.

II. Background

EPA is conducting its registration review of the chemicals listed in Table 1 of Unit I pursuant to the Federal Insecticide, Fungicide, and Rodenticide Act (FIFRA) section 3(g) (7 U.S.C. 136a(g)) and the Procedural Regulations for Registration Review at 40 CFR part 155, subpart C. FIFRA section 3(g) provides, among other things, that pesticide registrations are to be reviewed every 15 years. Consistent with 40 CFR 155.57, in its final registration review decision, EPA will ultimately determine whether a pesticide continues to meet the registration standard in FIFRA section 3(c)(5) (7 U.S.C. 136a(c)(5)). As part of the registration review process, the Agency has completed final or interim registration review decisions for the pesticides in Table 1 of Unit I.

Prior to completing the final or interim registration review decisions in Table 1 of Unit I, EPA posted proposed registration review decisions for these chemicals and invited the public to submit any comments or new information, consistent with 40 CFR 155.58(a). EPA considered and responded to any comments or information received during these public comment periods in the respective final registration review decisions.

For additional background on the registration review program, see: https://www.epa.gov/pesticide-reevaluation.

Authority: 7 U.S.C. 136 et seq.

Dated: July 28, 2025.
Jean Anne Overstreet,
Director, Pesticide Re-Evaluation Division, Office of Pesticide Programs.

[FR Doc. 2025-14892 Filed 8-5-25; 8:45 am]

BILLING CODE 6560-50-P